DEPARTMENT OF ENERGY

Federal Energy Regulatory Commission

[Docket No. CP14-12-000]

Sabine Pass Liquefaction, LLC; Sabine Pass LNG, L.P.; Notice of Application to Amend Authorization Under Section 3 of the Natural Gas Act

Take notice that on October 25, 2013 Sabine Pass Liquefaction, LLC and Sabine Pass LNG, L.P. (collectively, Sabine Pass), 700 Milam Street, Suite 800, Houston, Texas 77002, filed in Docket No. CP14-12-000, an application, pursuant to section 3(a) of the Natural Gas Act (NGA) and Part 153 of the Commission's Regulations, to amend the authorizations granted on April 16, 2012 in Docket No. CP11-72-000 (Liquefaction Project), as amended in Docket No. CP13-2 on August 2, 2013, in order to increase the total LNG production capacity of the Liquefaction Project from the currently authorized 2.2 Bcf per day (803 Bcf per year) to 2.76 Bcf per day (1,006 Bcf per year). Sabine Pass' requested increase in authorized capacity is an increase from the current, conservatively estimated nominal capacity to a peak or maximum capacity at ideal operating conditions. No new facilities are proposed, all as more fully set forth in the application which is on file with the Commission and open to public inspection.

Any questions regarding this application should be directed to Patricia Outtrim, Vice President, Governmental and Regulatory Affairs, Cheniere Energy, Inc., 700 Milam Street, Suite 800, Houston, Texas 77002, or call (713) 375-5000, or by email pat.outtrim@cheniere.com. Or contact Lisa M. Tonery, Partner, Fulbright & Jaworski LLP, 666 Fifth Avenue, New York, NY 10103, or call (212)318-3009, or by email lisa.tonery@nortonrosefulbright.com.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit an original and 7 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 7 copies of the protest or intervention to the Federal Energy regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on November 14, 2013.

Dated: October 31, 2013.
Kimberly D. Bose,
Secretary.

[FR Doc. 2013-26655 Filed 11-6-13; 8:45 am]

BILLING CODE 6717-01-P